INTERNATIONAL TRADE COMMISSION

[Investigation Nos. 731-TA-776-779 (Third Review)]

Preserved Mushrooms from Chile, China, India, and Indonesia; Determination

On the basis of the record ¹ developed in the subject five-year reviews, the United States International Trade Commission (“Commission”) determines, pursuant to the Tariff Act of 1930, that revocation of the antidumping duty orders on preserved mushrooms from Chile, China, India, and Indonesia would be likely to lead to continuation or recurrence of material injury to an industry in the United States within a reasonably foreseeable time.²

¹ The record is defined in sec. 207.2(f) of the Commission's Rules of Practice and Procedure (19 CFR 207.2(f)).

² All six Commissioners voted in the affirmative.

Background

The Commission, pursuant to section 751(c) of the Tariff Act of 1930 (19 U.S.C. 1675(c)), instituted these reviews on March 2, 2015 (80 FR 11221) and determined on June 5, 2015 that it would conduct expedited reviews (80 FR 38464, July 6, 2015).

The Commission made these determinations pursuant to section 751(c) of the Tariff Act of 1930 (19 U.S.C. 1675(c)). It completed and filed its determinations in these reviews on August 14, 2015. The views of the Commission are contained in USITC Publication 4557 (August 2015), entitled Preserved Mushrooms from Chile, China, India, and Indonesia: Investigation Nos. 731-TA-776-779 (Third Review).

By order of the Commission.
Issued: August 19, 2015.
Lisa R. Barton,
Secretary to the Commission.

[FR Doc. 2015-20863 Filed 8-21-15; 8:45 am]

BILLING CODE 7020-02-P